DEPARTMENT OF TRANSPORTATION

Office of the Secretary

[Docket DOT-OST-2011-0169]

Application of Sun Air Express, LLC, d/b/a Sun Air International for Commuter Authority

AGENCY: Department of Transportation.

ACTION: Notice of Order to Show Cause (Order 2012-6-1); Docket DOT-OST-2011-0169.

SUMMARY: The Department of Transportation is directing all interested persons to show cause why it should not issue an order finding Sun Air Express, LLC d/b/a Sun Air International fit, willing, and able, and awarding it Commuter Air Carrier Authorization.

DATES: Persons wishing to file objections should do so no later than June 15, 2012.

ADDRESSES: Objections and answers to objections should be filed in Docket DOT-OST-2011-0169 and addressed to U.S. Department of Transportation, Docket Operations, (M-30, Room W12-140), 1200 New Jersey Avenue SE., West Building Ground Floor, Washington, DC 20590, and should be served upon the parties listed in Attachment A to the order.

FOR FURTHER INFORMATION CONTACT: Damon Walker, Air Carrier Fitness Division (X-56, Room W86-487), U.S. Department of Transportation, 1200 New Jersey Avenue SE., Washington, DC 20590, (202) 366-9721.

Dated: June 1, 2012.
Robert A. Letteney,
Deputy Assistant Secretary for Aviation and International Affairs.

[FR Doc. 2012-13953 Filed 6-7-12; 8:45 am]

BILLING CODE P